Proclamation 9449 of May 13, 2016

World Trade Week, 2016

By the President of the United States of America

A Proclamation

The United States of America cannot afford to sit on the sidelines of the global economy. With over 95 percent of our Nation's potential customers living outside our borders, trade agreements are a vital part of our agenda for creating jobs and growing our economy—and smart trade agreements that level the playing field for American workers and businesses are a vital piece of middle-class economics. During World Trade Week, we reaffirm the importance of global trade, and we redouble our efforts to pursue trade deals that reflect American values and give our people a fair shot at success.

America's small businesses employ more than half of all Americans, and they represent 98 percent of our Nation's exporters. I am committed to a trade agenda that includes strong, enforceable provisions in our agreements that help our businesses—large and small—support higher-paying jobs and ship products stamped “Made in the USA” around the world. My Administration has ramped up enforcement of our trade laws like never before. Last year, I renewed and expanded the Trade Adjustment Assistance program, providing job training and other assistance to American workers. And earlier this year, I signed bipartisan legislation that helps us enforce our trade agreements—helping ensure that other countries play by the rules.

Some of our greatest economic opportunities abroad are in the Asia-Pacific region. For more than 5 years, the United States negotiated a new, forward-looking trade deal that puts workers first and ensures we write the rules of the road for trade in the 21st century. The Trans-Pacific Partnership (TPP) brings 12 countries representing nearly 40 percent of the global economy together to trade and invest in the Asia-Pacific—one of the world's fastest growing regions. The TPP includes fully enforceable provisions that ensure a free and open Internet, respect intellectual property rights, protect the environment, and uphold worker rights. It eliminates more than 18,000 taxes imposed by other countries on American products, and it bolsters our leadership abroad while supporting good jobs here at home. The United States signed TPP this year, and I will continue working with the Congress to enact it as soon as possible.

The largest trade and investment relationship in the world is between the United States and the European Union—yet too many barriers remain in the way of even greater trade and investment between us. That is why, together, we have moved forward with the Trans-Atlantic Trade and Investment Partnership (T-TIP), which will eliminate tariffs, simplify procedures, bridge differences in regulations, and cut red tape. T-TIP also enforces strong standards, and it will reinforce our larger trans-Atlantic relationship—the foundation of our prosperity and security since World War II.

Our global economy's growth is fueled by trade. While understandable skepticism exists about trade, particularly in places that have been hit hard by trade deals of the past, we cannot ignore the realities of the new economy. Rather, we must set the highest standards for our trade agreements, enforce the commitments and obligations of our trading partners, and help write the rules of the road for trade in the 21st-century global economy, as we have done with TPP and will do through T-TIP. And we must continue to harness the dynamism and entrepreneurship inherent to who we are as a people and enable Americans to sell the best products and ideas in the world to every corner of the world. This week, let us renew our commitment to that mission and work together toward a future of greater opportunity for all.

NOW, THEREFORE, I, BARACK OBAMA, President of the United States of America, by virtue of the authority vested in me by the Constitution and the laws of the United States, do hereby proclaim May 15 through May 21, 2016, as World Trade Week. I encourage all Americans to visit www.WhiteHouse.gov/Trade and to observe this week with events, trade shows, and educational programs that celebrate and inform Americans about the benefits of trade to our Nation and the global economy.

IN WITNESS WHEREOF, I have hereunto set my hand this thirteenth day of May, in the year of our Lord two thousand sixteen, and of the Independence of the United States of America the two hundred and fortieth.

[FR Doc. 2016-11926

Filed 5-17-16; 11:15 am]

Billing code 3295-F6-P